NUCLEAR REGULATORY COMMISSION

[NRC-2016-0226]

Biweekly Notice: Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from October 8, 2016, to October 24, 2016. The last biweekly notice was published on October 25, 2016.

DATES: Comments must be filed by December 8, 2016. A request for a hearing must be filed by January 9, 2017.

ADDRESSES: You may submit comments by any of the following methods:

• Federal Rulemaking Web site: Go to http://www.regulations.gov and search for Docket ID NRC-2016-0226. Address questions about NRC dockets to Carol Gallagher; telephone: 301-415-3463; email: Carol.Gallagher@nrc.gov. For technical questions, contact the individual or individuals in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Lynn Ronewicz, Office of Nuclear Reactor Regulation, U.S. Nuclear Regulatory Commission, Washington DC 20555-0001; telephone: 301-415-1927, email: Lynn.Ronewicz@nrc.gov.

I. Obtaining Information and Submitting Comments

A. Obtaining Information

Please refer to Docket ID NRC-2016-0226, facility name, unit number(s), plant docket number, application date, and subject when contacting the NRC about the availability of information for this action. You may obtain publicly-available information related to this action by any of the following methods:

• Federal Rulemaking Web site: Go to http://www.regulations.gov and search for Docket ID NRC-2016-0226.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2016-0226, facility name, unit number(s), plant docket number, application date, and subject in your comment submission.

The NRC cautions you not to include identifying or contact information that you do not want to be publicly disclosed in your comment submission. The NRC will post all comment submissions at http://www.regulations.gov, as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

I. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and a petition to intervene (petition) with respect to the action. Petitions shall be filed in accordance with the Commission's “Agency Rules of Practice and Procedure” in 10 CFR part 2. Interested persons should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a petition is filed within 60 days, the Commission or a presiding officer designated by the Commission or by the Chief Administrative Judge of the Atomic Safety and Licensing Board Panel, will rule on the petition; and the Secretary or the Chief Administrative Judge of the Atomic Safety and Licensing Board will issue a notice of a hearing or an appropriate order.

As required by 10 CFR 2.309, a petition shall set forth with particularity the interest of the petitioner in the proceeding, and how that interest may be affected by the results of the proceeding. The petition should specifically explain the reasons why intervention should be permitted with particular reference to the following general requirements: (1) The name, address, and telephone number of the petitioner; (2) the nature of the petitioner's right under the Act to be made a party to the proceeding; (3) the nature and extent of the petitioner's property, financial, or other interest in the proceeding; and (4) the possible effect of any decision or order which may be entered in the proceeding on the petitioner's interest. The petition must also set forth the specific contentions which the petitioner seeks to have litigated at the proceeding.

Each contention must consist of a specific statement of the issue of law or fact to be raised or controverted. In addition, the petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion to support its position on the issue. The petition must include sufficient information to show that a genuine dispute exists with the applicant on a material issue of law or fact. Contentions shall be limited to matters within the scope of the proceeding. The contention must be one which, if proven, would entitle the petitioner to relief. A petitioner who fails to satisfy these requirements with respect to at least one contention will not be permitted to participate as a party.

Those permitted to intervene become parties to the proceeding, subject to any limitations in the order granting leave to intervene, and have the opportunity to participate fully in the conduct of the hearing with respect to resolution of that person's admitted contentions consistent with the NRC's regulations, policies, and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1).

The petition should state the nature and extent of the petitioner's interest in the proceeding. The petition should be submitted to the Commission by January 9, 2017. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing).

All documents filed in NRC adjudicatory proceedings, including a request for hearing, a petition for leave to intervene, any motion or other document filed in the proceeding prior to the submission of a request for hearing or petition to intervene (hereinafter “petition”), and documents filed by interested governmental entities participating under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a petition (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are available on the NRC's public Web site at http://www.nrc.gov/site-help/e-submittals/adjudicatory-sub.html. Participants may attempt to use other software not listed on the Web site, but should note that the NRC's E-Filing system does not support unlisted software, and the NRC Electronic Filing Help Desk will not be able to offer assistance in using unlisted software.

Once a participant has obtained a digital ID certificate and a docket has been created, the participant can then submit a petition. Submissions should be in Portable Document Format (PDF). Additional guidance on PDF submissions is available on the NRC's public Web site at http://www.nrc.gov/site-help/electronic-sub-ref-mat.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing petition to intervene is filed so that they can obtain access to the document via the E-Filing system.

A person filing electronically using the NRC's adjudicatory E-Filing system may seek assistance by contacting the NRC Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 7 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a petition will require including information on local residence in order to demonstrate a proximity assertion of interest in the proceeding. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

For further details with to respect these license amendment applications, see the application for amendment which is available for public inspection in ADAMS and at the NRC's PDR. For additional direction on accessing information related to this document, see the “Obtaining Information and Submitting Comments” section of this document.

Dominion Energy Kewaunee, Inc., Docket No. 50-305, Kewaunee Power Station (KPS), Carlton, Wisconsin

Date of amendment request: September 14, 2015. A publicly available version is in ADAMS under Accession No. ML15261A236.

Description of amendment request: The amendment would revise the Operating License and associated Technical Specifications to reflect removal of all KPS spent nuclear fuel from the spent fuel pool and its transfer to dry cask storage within an Independent Spent Fuel Storage Installation.

Basis for proposed no significant hazards consideration determination: As required by 10 CFR 50.91(a), the licensee has provided its analysis of the issue of no significant hazards consideration, which is presented below:

1. Do the proposed changes involve a significant increase in the probability or consequences of an accident previously evaluated?

Response: No.

The proposed amendment would modify the KPS renewed facility operating license and Technical Specification (TS) by deleting the portions of the license and TS that are no longer applicable to a facility with no spent nuclear fuel stored in the spent fuel pool, while modifying the remaining portions to correspond to all nuclear fuel stored within an Independent Spent Fuel Storage Installation (ISFSI). This amendment becomes effective upon removal of all spent nuclear fuel from the KPS spent fuel pool and its transfer to dry cask storage within an ISFSI.

The definition of safety-related structures, systems, and components (SSCs) in 10 CFR 50.2 states that safety-related SSCs are those relied on to remain functional during and following design basis events to assure:

1. The integrity of the reactor coolant boundary;

2. The capability to shutdown the reactor and maintain it in a safe shutdown condition; or

3. The capability to prevent or mitigate the consequences of accidents which could result in potential offsite exposures comparable to the applicable guideline exposures set forth in 10 CFR 50.43(a)(1) or 100.11.

The first two criteria (integrity of the reactor coolant pressure boundary and safe shutdown of the reactor) are not applicable to a plant in a permanently defueled condition. The third criterion is related to preventing or mitigating the consequences of accidents that could result in potential offsite exposures exceeding limits. However, after all nuclear spent fuel assemblies have been transferred to dry cask storage within an ISFSI, none of the SSCs at KPS are required to be relied on for accident mitigation. Therefore, none of the SSCs at KPS meet the definition of a safety-related SSC stated in 10 CFR 50.2. The proposed deletion of requirements in the TS does not affect systems credited in any accident analysis at KPS.

Section 14 of the KPS Updated Safety Analysis Report (USAR) described the design basis accidents related to the spent fuel pool. These postulated accidents are predicated on spent fuel being stored in the spent fuel pool. With the removal of the spent fuel from the spent fuel pool, there are no remaining spent fuel assemblies to be monitored and there are no credible accidents that require the actions of a Certified Fuel Handler, Shift Manager, or a Non-certified Operator to prevent occurrence or mitigate the consequences of an accident.

The proposed changes do not have an adverse impact on the remaining decommissioning activities or any of their postulated consequences.

The proposed changes related to the relocation of certain administrative requirements do not affect operating procedures or administrative controls that have the function of preventing or mitigating any accidents applicable to the safe management of irradiated fuel or decommissioning of the facility.

Therefore, the proposed amendment does not involve a significant increase in the consequences of a previously evaluated accident.

2. Do the proposed changes create the possibility of a new or different kind of accident from any accident previously evaluated?

Response: No.

The proposed changes eliminate the operational requirements and certain design requirements associated with the storage of the spent fuel in the spent fuel pool, and relocate certain administrative controls to the Quality Assurance Program Description.

After the removal of the spent fuel from the spent fuel pool and transfer to the ISFSI, there are no spent fuel assemblies that remain in the spent fuel pool. Coupled with a prohibition against storage of fuel in the spent fuel pool, the potential for fuel related accidents is removed. The proposed changes do not introduce any new failure modes.

Therefore, the proposed amendment does not create the possibility of a new or different kind of accident from any previously evaluated.

3. Do the proposed changes involve a significant reduction in the margin of safety?

Response: No.

The removal of all spent nuclear fuel from the spent fuel pool into storage in casks within an ISFSI, coupled with a prohibition against future storage of fuel within the spent fuel pool, removes the potential for fuel related accidents.

The design basis and accident assumptions within the KPS USAR and the TS relating to safe management and safety of spent fuel in the spent fuel pool are no longer applicable. The proposed changes do not affect remaining plant operations, systems, or components supporting decommissioning activities.

The requirements for systems, structures, and components (SSCs) that have been deleted from the KPS TS are not credited in the existing accident analysis for any applicable postulated accident; and as such, do not contribute to the margin of safety associated with the accident analysis.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Branch Chief: Bruce A. Watson.

Entergy Operations, Inc. (Entergy), Docket No. 50-382, Waterford Steam Electric Station, Unit 3, St. Charles Parish, Louisiana

Date of amendment request: July 25, 2016. A publicly-available version is in ADAMS under Accession No. ML16207A532.

Description of amendment request: The amendment would revise the Waterford Steam Electric Station, Unit 3 (Waterford 3), Technical Specifications (TSs) Section 6.5.8, “Inservice Testing Program,” to remove requirements duplicated in the American Society of Mechanical Engineers Code for Operation and Maintenance of Nuclear Power Plants Case OMN-20, “Inservice Test Frequency.” A new defined term, “Inservice Testing Program,” will be added to the TS 1.0, “Definitions,” section. The licensee states that the proposed change to the TS is consistent with Technical Specifications Task Force (TSTF) Traveler TSTF-545, Revision 3, “TS Inservice Testing Program Removal & Clarify SR Usage Rule Application to Section 5.5 Testing” (ADAMS Accession No. ML15294A555). However, the Waterford 3 TSs (NUREG-0973) are of an older standard version and have not been converted to the Improved Standard Technical Specifications (ISTSs). Therefore, Entergy has included in the application a table of TSs affected by the amendment, with variations and differences between the Waterford 3 TSs and the ISTSs listed in TSTF-545 discussed individually.

Basis for proposed no significant hazards consideration determination: As required by 10 CFR 50.91(a), the licensee has provided its analysis of the issue of no significant hazards consideration, which is presented below with NRC staff edits in square brackets:

1. Does the proposed change involve a significant increase in the probability or consequences of an accident previously evaluated?

Response: No.

The proposed change revises TS Chapter 6, “Administrative Controls,” Section 6.5, “Programs” by eliminating the “Inservice Testing Program” specification. Most requirements in the IST Program are removed, as they are duplicative of requirements in the ASME OM Code [American Society of Mechanical Engineers Code for Operation and Maintenance of Nuclear Power Plants], as clarified by Code Case OMN-20, “Inservice Test Frequency.” The remaining requirements in the Section 6.5.8, IST Program are eliminated [. . .]. A new defined term, “Inservice Testing Program,” is added to the TS, which references the requirements of 10 CFR 50.55a(f).

Performance of inservice testing is not an initiator to any accident previously evaluated. As a result, the probability of occurrence of an accident is not significantly affected by the proposed change. Inservice test frequencies under Code Case OMN-20 are equivalent to the current testing period allowed by the TS with the exception that testing frequencies greater than 2 years may be extended by up to 6 months to facilitate test scheduling and consideration of plant operating conditions that may not be suitable for performance of the required testing. The testing frequency extension will not affect the ability of the components to mitigate any accident previously evaluated as the components are required to be operable during the testing period extension. Performance of inservice tests utilizing the allowances in OMN-20 will not significantly affect the reliability of the tested components. As a result, the availability of the affected components, as well as their ability to mitigate the consequences of accidents previously evaluated, is not affected.

Therefore, the proposed change does not involve a significant increase in the probability or consequences of an accident previously evaluated.

2. Does the proposed change create the possibility of a new or different kind of accident from any accident previously evaluated?

Response: No.

The proposed change does not alter the design or configuration of the plant. The proposed change does not involve a physical alteration of the plant; no new or different kind of equipment will be installed. The proposed change does not alter the types of inservice testing performed. In most cases, the frequency of inservice testing is unchanged. However, the frequency of testing would not result in a new or different kind of accident from any previously evaluated since the testing methods are not altered.

Therefore, the proposed change does not create the possibility of a new or different kind of accident from any previously evaluated.

3. Does the proposed change involve a significant reduction in a margin of safety?

Response: No.

The proposed change eliminates some requirements from the TS in lieu of requirements in the ASME Code, as modified by use of Code Case OMN-20. Compliance with the ASME Code is required by 10 CFR 50.55a. The proposed change also allows inservice tests with frequencies greater than 2 years to be extended by 6 months to facilitate test scheduling and consideration of plant operating conditions that may not be suitable for performance of the required testing. The testing frequency extension will not affect the ability of the components to respond to an accident as the components are required to be operable during the testing period extension. The proposed change will eliminate the existing TS Surveillance Requirement (SR) 4.0.3 (referenced as SR 3.0.3 in the ISTS [improved standard technical specification]) allowance to defer performance of missed inservice tests up to the duration of the specified testing frequency, and instead will require an assessment of the missed test on equipment operability. This assessment will consider the effect on a margin of safety (equipment operability). Should the component be inoperable, the Technical Specifications provide actions to ensure that the margin of safety is protected. The proposed change also eliminates a statement that nothing in the ASME Code should be construed to supersede the requirements of any TS. [. . .] However, elimination of the statement will have no effect on plant operation or safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William B. Glew, Jr., Associate General Counsel—Entergy Services, Inc., 440 Hamilton Avenue, White Plains, NY 10601.

NRC Acting Branch Chief: Stephen S. Koenick.

Exelon Generation Company, LLC, Docket No. 50-244, R.E. Ginna Nuclear Power Plant, Wayne County, New York

Date of amendment request: August 22, 2016. A publicly available version is in ADAMS under Accession No. ML16236A300.

Description of amendment request: The amendment would (1) revise Technical Specification (TS) 4.2.1, “Reactor Core, Fuel Assemblies,” to add Optimized ZIRLO™ as an approved fuel rod cladding material, (2) revise TS 5.6.5.b to add the Westinghouse topical reports for Optimized ZIRLO™ and ZIRLO®, and (3) revise TS 5.6.5.b with a non-technical change to the Reference 11 title (replace a semicolon with a period).

Basis for proposed no significant hazards consideration determination: As required by 10 CFR 50.91(a), the licensee has provided its analysis of the issue of no significant hazards consideration, which is presented below:

1. Does the proposed change involve a significant increase in the probability or consequences of an accident previously evaluated?

Response: No.

The proposed change would allow the use of Optimized ZIRLO™ clad nuclear fuel in the reactors. The NRC approved topical report WCAP-12610-P-A & CENPD-404-P-A, Addendum 1-A, “Optimized ZIRLO™,” prepared by Westinghouse Electric Company LLC (Westinghouse), addresses Optimized ZIRLO and demonstrates that Optimized ZIRLO™ has essentially the same properties as currently licensed ZIRLO®. The fuel cladding itself is not an accident initiator and does not affect accident probability. With the approved exemption, use of Optimized ZIRLO™ fuel cladding will continue to meet all 10 CFR 50.46 acceptance criteria and, therefore, will not increase the consequences of an accident.

Therefore, the proposed change does not involve a significant increase in the probability or consequences of an accident previously evaluated.

2. Does the proposed change create the possibility of a new or different kind of accident from any accident previously evaluated?

Response: No.

Use of Optimized ZIRLO™ clad fuel will not result in changes in the operation or configuration of the facility. Topical Report WCAP-12610-P-A & CENPD-404-P-A, Addendum 1-A, demonstrated that the material properties of Optimized ZIRLO™ are similar to those of standard ZIRLO®. Therefore, Optimized ZIRLO™ fuel rod cladding will perform similarly to those fabricated from standard ZIRLO®, thus precluding the possibility of the fuel cladding becoming an accident initiator and causing a new or different type of accident. Therefore, the proposed change does not create the possibility of a new or different kind of accident from any previously evaluated.

3. Does the proposed change involve a significant reduction in a margin of safety?

Response: No.

The proposed change will not involve a significant reduction in the margin of safety. Topical Report WCAP-12610-P-A & CENPD-404-P-A, Addendum 1-A, demonstrated that the material properties of the Optimized ZIRLO™ are not significantly different from those of standard ZIRLO®. Optimized ZIRLO™ is expected to perform similarly to standard ZIRLO® for all normal operating and accident scenarios, including both loss of coolant accident (LOCA) and non-LOCA scenarios. For LOCA scenarios, where the slight difference is Optimized ZIRLO™ material properties relative to standard ZIRLO® could have some impact on the overall accident scenario, plant-specific LOCA analyses using Optimized ZIRLO™ properties will demonstrate that the acceptance criteria of 10 CFR 50.46 have been satisfied.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Travis L. Tate.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Exelon Generation Company, LLC, Docket Nos. 50-317 and 50-318, Calvert Cliffs Nuclear Power Plant, Unit Nos. 1 and 2, Calvert County, Maryland

Exelon Generation Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket Nos. 50-220 and 50-410, Nine Mile Point Nuclear Station, Units 1 and 2, Oswego County, New York

Exelon Generation Company, LLC, and PSEG Nuclear LLC, Docket Nos. 50-277 and 50-278, Peach Bottom Atomic Power Station, Units 2 and 3, York and Lancaster Counties, Pennsylvania

Exelon Generation Company, LLC, Docket Nos. 50-254 and 50-265, Quad Cities Nuclear Power Station, Units 1 and 2, Rock Island County, Illinois

Exelon Generation Company, LLC, Docket No. 50-244, R.E. Ginna Nuclear Power Plant, Wayne County, New York

Exelon Generation Company, LLC, Docket No. 50-289, Three Mile Island Nuclear Station, Unit 1, Dauphin County, Pennsylvania

Date of amendment request: July 26, 2016, as supplemented by letter dated October 6, 2016. Publicly-available versions are in ADAMS under Accession Nos. ML16209A218 and ML16280A402, respectively.

Description of amendment request: The amendments would revise the Inservice Testing Program requirements in each plant's technical specifications (TSs). For each plant, the changes include deleting the current TS for the Inservice Testing Program, adding a new defined term, “INSERVICE TESTING PROGAM,” to the TSs, and revising other TSs to reference this new defined term instead of the deleted TS. The licensee stated that the proposed changes are based on Technical Specifications Task Force (TSTF) Traveler TSTF-545, Revision 3, “TS Inservice Testing Program Removal & Clarify SR Usage Rule Application to Section 5.5 Testing” (ADAMS Accession No. ML15294A555), with some variations.

Basis for proposed no significant hazards consideration determination: As required by 10 CFR 50.91(a), the licensee has provided its analysis of the issue of no significant hazards consideration. The NRC staff has reviewed the licensee's analysis against the standards of 10 CFR 50.92(c). The NRC staff's analysis is presented below:

1. Does the proposed amendment involve a significant increase in the probability or consequences of an accident previously evaluated?

Response: No.

The proposed change revises TS Chapter 5, “Administrative Controls,” Section 5.5, “Programs and Manuals,” or equivalent, by deleting the “lnservice Testing Program” specification. A new defined term, “INSERVICE TESTING PROGRAM,” is added to the TS, which references the requirements of 10 CFR 50.55a(f), “Inservice testing requirements.” The regulations in 10 CFR 50.55a(f) require that specified pumps and valves meet the inservice test requirements in the American Society of Mechanical Engineers (ASME) Code for Operation and Maintenance of Nuclear Power Plants (ASME OM Code) and addenda. Most requirements currently in the TS lnservice Testing Program are duplicative of requirements in the ASME OM Code and addenda, as modified by NRC-approved alternatives or reliefs. The proposed change primarily affects the required frequency for performing ASME OM Code required tests for pumps and valves which are covered by the Inservice Testing Program. The proposed change would allow a longer interval between some tests and require a shorter interval between other tests; the effect of the change to specific test intervals depends on the plant-specific licensing basis.

Performance of inservice testing is not an initiator to any accident previously evaluated. As a result, the probability of occurrence of an accident is not significantly affected by the proposed change. Changing the required test frequency of pumps and valves will not affect the ability of the components to mitigate any accident previously evaluated, as the components are required to be operable. If components required by the TSs are found to be inoperable, the TSs specify the actions required to ensure safe operation of the facility, and these actions are not altered by the proposed change. Performance of inservice tests in accordance with the ASME OM Code, as modified by NRC-approved alternatives or reliefs, will not significantly affect the reliability of the tested components. As a result, the availability of the affected components, as well as their ability to mitigate the consequences of accidents previously evaluated, is not significantly affected.

Therefore, the proposed change does not involve a significant increase in the probability or consequences of an accident previously evaluated.

2. Does the proposed amendment create the possibility of a new or different kind of accident from any accident previously evaluated?

Response: No.

The proposed change does not alter the design or configuration of the plant. The proposed change does not involve a physical alteration of the plant; no new or different kind of equipment will be installed. The proposed change does not alter the types of inservice testing performed. Changes to the frequency of testing would not result in a new or different kind of accident from any previously evaluated since the testing methods are not altered. Therefore, the proposed change does not create the possibility of a new or different kind of accident from any previously evaluated.

3. Does the proposed amendment involve a significant reduction in a margin of safety?

Response: No.

The proposed change eliminates some requirements from the TSs in lieu of requirements in the ASME OM Code, as modified by NRC-approved alternatives or reliefs. Compliance with the ASME OM Code is required by 10 CFR 50.55a. Changes to the required test frequency will not affect the ability of the components to respond to an accident, as the components are required to be operable. The proposed change also eliminates a provision which allowed, under certain circumstances, the licensee to delay declaring equipment inoperable due to a missed surveillance. This change will not have a significant effect on plant operation or safety, as the licensee will still be required by TSs to assess component operability. If components required by the TSs are found to be inoperable, the TSs specify the actions required to ensure safe operation of the facility, and these actions are not altered by the proposed change. The proposed change also eliminates a statement that nothing in the ASME OM Code should be construed to supersede the requirements of any TS. Elimination of the statement will not have a significant effect on plant operation or safety. Therefore, the proposed change does not involve a significant reduction in a margin of safety.

Based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Acting Branch Chief: G. Edward Miller.

Nebraska Public Power District, Docket No. 50-298, Cooper Nuclear Station (CNS), Nemaha County, Nebraska

Date of amendment request: August 26, 2016. A publicly-available version is in ADAMS under Accession No. ML16245A288.

Description of amendment request: The amendment would revise the CNS Technical Specifications (TSs) to eliminate Section 5.5.6, “Inservice Testing [IST] Program,” to remove requirements duplicated in the American Society of Mechanical Engineers Code for Operation and Maintenance of Nuclear Power Plants (ASME OM Code) Case OMN-20, “Inservice Test Frequency.” A new defined term, “Inservice Testing Program,” will be added to TS Section 1.1, “Definitions.” The licensee stated that the proposed change to the TSs is consistent with Technical Specifications Task Force (TSTF) Traveler TSTF-545, Revision 3, “TS Inservice Testing Program Removal & Clarify SR Usage Rule Application to Section 5.5 Testing” (ADAMS Accession No. ML15294A555), with no proposed technical variations or deviations. However, in some cases, the CNS TSs use different section titles or numbering for surveillance requirements than the Standard Technical Specifications on which TSTF-545 was based, so the licensee changed the TSTF-545 numbering to be consistent with the CNS TS numbering.

Basis for proposed no significant hazards consideration determination: As required by 10 CFR 50.91(a), the licensee has provided its analysis of the issue of no significant hazards consideration, which is presented below with NRC staff edits in [square brackets]:

1. Does the proposed change involve a significant increase in the probability or consequences of an accident previously evaluated?

Response: No.

The proposed change revises TS Chapter 5, “Administrative Controls,” Section 5.5, “Programs and Manuals,” by eliminating the “Inservice Testing Program” specification. Most requirements in the Inservice Testing Program are removed, as they are duplicative of requirements in the ASME OM Code, as clarified by Code Case OMN-20, “Inservice Test Frequency.” The remaining requirements in the Section 5.5 IST Program are eliminated [. . .]. A new defined term, “Inservice Testing Program,” is added to the TS, which references the requirements of 10 CFR 50.55a(f).

Performance of inservice testing is not an initiator to any accident previously evaluated. As a result, the probability of occurrence of an accident is not significantly affected by the proposed change. Inservice test frequencies under Code Case OMN-20 are equivalent to the current testing period allowed by the TS with the exception that testing frequencies greater than 2 years may be extended by up to 6 months to facilitate test scheduling and consideration of plant operating conditions that may not be suitable for performance of the required testing. The testing frequency extension will not affect the ability of the components to mitigate any accident previously evaluated as the components are required to be operable during the testing period extension. Performance of inservice tests utilizing the allowances in OMN-20 will not significantly affect the reliability of the tested components. As a result, the availability of the affected components, as well as their ability to mitigate the consequences of accidents previously evaluated, is not affected.

Therefore, the proposed change does not involve a significant increase in the probability or consequences of an accident previously evaluated.

2. Does the proposed change create the possibility of a new or different kind of accident from any accident previously evaluated?

Response: No.

The proposed change does not alter the design or configuration of the plant. The proposed change does not involve a physical alteration of the plant; no new or different kind of equipment will be installed. The proposed change does not alter the types of inservice testing performed. In most cases, the frequency of inservice testing is unchanged. However, the frequency of testing would not result in a new or different kind of accident from any previously evaluated since the testing methods are not altered.

Therefore, the proposed change does not create the possibility of a new or different kind of accident from any previously evaluated.

3. Does the proposed change involve a significant reduction in a margin of safety?

Response: No.

The proposed change eliminates some requirements from the TS in lieu of requirements in the ASME Code, as modified by use of Code Case OMN-20. Compliance with the ASME Code is required by 10 CFR 50.55a. The proposed change also allows inservice tests with frequencies greater than 2 years to be extended by 6 months to facilitate test scheduling and consideration of plant operating conditions that may not be suitable for performance of the required testing. The testing frequency extension will not affect the ability of the components to respond to an accident as the components are required to be operable during the testing period extension. The proposed change will eliminate the existing TS SR 3.0.3 allowance to defer performance of missed inservice tests up to the duration of the specified testing frequency, and instead will require an assessment of the missed test on equipment operability. This assessment will consider the effect on a margin of safety (equipment operability). Should the component be inoperable, the Technical Specifications provide actions to ensure that the margin of safety is protected. The proposed change also eliminates a statement that nothing in the ASME Code should be construed to supersede the requirements of any TS. [. . .] However, elimination of the statement will have no effect on plant operation or safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Acting Branch Chief: Stephen S. Koenick.

Omaha Public Power District, Docket No. 50-285, Fort Calhoun Station, Unit No. 1 (FCS), Washington County, Nebraska

Date of amendment request: September 2, 2016. A publicly-available version is in ADAMS under Accession No. ML16246A321.

Description of amendment request: The amendment would revise the Nuclear Radiological Emergency Response Plan (RERP) for FCS for the plant condition following permanent cessation of power operations and defueling. The proposed FCS RERP changes would revise the shift staffing and Emergency Response Organization (ERO) staffing.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the FCS RERP do not impact the function of plant structures, systems, or components (SSCs). The proposed changes do not affect accident initiators or precursors, nor does it alter design assumptions. The proposed changes do not prevent the ability of the on-shift staff and ERO to perform their intended functions to mitigate the consequences of any accident or event that will be credible in the permanently defueled condition. The proposed changes only remove positions that will no longer be credited in the FCS RERP.

Therefore, the proposed amendment does not involve a significant increase in the probability or consequences of an accident previously evaluated.

2. Does the proposed amendment create the possibility of a new or different kind of accident from any accident previously evaluated?

Response: No.

The proposed changes reduce the number of on-shift and ERO positions commensurate with the hazards associated with a permanently shut down and defueled facility. The proposed changes do not involve installation of new equipment or modification of existing equipment, so that no new equipment failure modes are introduced. Also, the proposed changes do not result in a change to the way that the equipment or facility is operated so that no new accident initiators are created.

Therefore, the proposed amendment does not create the possibility of a new or different kind of accident from any previously evaluated.

3. Does the proposed amendment involve a significant reduction in a margin of safety?

Response: No.

Margin of safety is associated with confidence in the ability of the fission product barriers (i.e., fuel cladding, reactor coolant system pressure boundary, and containment structure) to limit the level of radiation dose to the public. The proposed changes are associated with the FCS RERP staffing and do not impact operation of the plant or its response to transients or accidents. The change does not affect the Technical Specifications. The proposed changes do not involve a change in the method of plant operation, and no accident analyses will be affected by the proposed changes. Safety analysis acceptance criteria are not affected by the proposed changes. The revised FCS RRP will continue to provide the necessary response staff with the proposed changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Acting Branch Chief: Stephen S. Koenick.

Omaha Public Power District, Docket No. 50-285, Fort Calhoun Station, Unit No. 1, Washington County, Nebraska

Date of amendment request: September 28, 2016. A publicly-available version is in ADAMS under Accession No. ML16273A502.

Description of amendment request: The amendment would modify the Technical Specifications to make administrative changes to align staffing for decommissioning Fort Calhoun Station, Unit No. 1.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes only impact administrative requirements associated with staff qualification, staff titles, personnel staffing levels, and clarification of systems used during decommissioning. The proposed changes do not involve a significant increase in the probability or consequences of an accident previously evaluated because: (1) The proposed amendment does not represent a change to any system design, (2) the proposed amendment does not alter, degrade, or prevent action described or assumed in any accident in the USAR [updated safety analysis report] from being performed, (3) the proposed amendment does not alter any assumptions previously made in evaluating radiological consequences, and [(4)] the proposed amendment does not affect the integrity of any fission product barrier. No safety related equipment is affected by the proposed change.

Therefore, the proposed changes do not involve a significant increase in the probability or consequences of an accident previously evaluated.

2. Does the proposed amendment create the possibility of a new or different kind of accident from any accident previously evaluated?

Response: No.

The proposed changes do not alter the physical design, safety limits, or safety analysis assumptions associated with the operation of the plant. Hence, the proposed changes do not introduce any new accident initiators, nor do these changes reduce or adversely affect the capabilities of any plant structure or system in the performance of their safety function.

Therefore, the proposed changes do not create the possibility of a new or different kind of accident from any previously evaluated.

3. Does the proposed amendment involve a significant reduction in a margin of safety?

Response: No.

The proposed changes do not alter the manner in which safety limits or limiting safety system settings are determined. The safety analysis acceptance criteria are not affected by these proposed changes. Further, the proposed changes do not change the design function of any equipment assumed to operate in the event of an accident.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Acting Branch Chief: Stephen S. Koenick.

PSEG Nuclear LLC, Docket Nos. 50-272 and 50-311, Salem Generating Station, Unit Nos. 1 and 2, Salem County, New Jersey

Date of amendment request: August 30, 2016. A publicly-available version is in ADAMS under Accession No. ML16243A233.

Description of amendment request: The amendments would revise the Salem Generating Station, Unit Nos. 1 and 2 (Salem), Technical Specifications (TSs), Section 6.8.4.j, “Inservice Testing Program,” to remove requirements duplicated in the American Society of Mechanical Engineers (ASME) Code for Operation and Maintenance of Nuclear Power Plants (OM Code) Case OMN-20, “Inservice Test Frequency.” A new defined term, “Inservice Testing Program,” will be added to the TS 1.0, “Definitions,” section. The licensee stated that the proposed change to the TS is consistent with Technical Specifications Task Force (TSTF) Traveler TSTF-545, Revision 3, “TS Inservice Testing Program Removal & Clarify SR Usage Rule Application to Section 5.5 Testing” (ADAMS Accession No. ML15294A555). However, the Salem TSs use different numbering than the Standard Technical Specifications on which TSTF-545 was based, so the licensee changed the TSTF-545 numbering to be consistent with the Salem TS numbering.

Basis for proposed no significant hazards consideration determination: As required by 10 CFR 50.91(a), the licensee has provided its analysis of the issue of no significant hazards consideration, which is presented below with NRC staff edits in square brackets:

1. Does the proposed change involve a significant increase in the probability or consequences of an accident previously evaluated?

Response: No.

The proposed change revises TS Chapter 6, “Administrative Controls,” Section 6.8, “Procedures and Programs,” by eliminating the “Inservice Testing Program” specification. Most requirements in the Inservice Testing Program are removed, as they are duplicative of requirements in the ASME OM Code, as clarified by Code Case OMN-20, “Inservice Test Frequency.” The remaining requirements in the Section 6.8 IST [Inservice Testing] Program are eliminated [. . .]. A new defined term, “Inservice Testing Program,” is added to the TS, which references the requirements of 10 CFR 50.55a(f).

Performance of inservice testing is not an initiator to any accident previously evaluated. As a result, the probability of occurrence of an accident is not significantly affected by the proposed change. Inservice test frequencies under Code Case OMN-20 are equivalent to the current testing period allowed by the TS with the exception that testing frequencies greater than 2 years may be extended by up to 6 months to facilitate test scheduling and consideration of plant operating conditions that may not be suitable for performance of the required testing. The testing frequency extension will not affect the ability of the components to mitigate any accident previously evaluated as the components are required to be operable during the testing period extension. Performance of inservice tests utilizing the allowances in OMN-20 will not significantly affect the reliability of the tested components. As a result, the availability of the affected components, as well as their ability to mitigate the consequences of accidents previously evaluated, is not affected.

Therefore, the proposed change does not involve a significant increase in the probability or consequences of an accident previously evaluated.

2. Does the proposed change create the possibility of a new or different kind of accident from any accident previously evaluated?

Response: No.

The proposed change does not alter the design or configuration of the plant. The proposed change does not involve a physical alteration of the plant; no new or different kind of equipment will be installed. The proposed change does not alter the types of inservice testing performed. In most cases, the frequency of inservice testing is unchanged. However, the frequency of testing would not result in a new or different kind of accident from any previously evaluated since the testing methods are not altered.

Therefore, the proposed change does not create the possibility of a new or different kind of accident from any previously evaluated.

3. Does the proposed change involve a significant reduction in a margin of safety?

Response: No.

The proposed change eliminates some requirements from the TS in lieu of requirements in the ASME Code, as modified by use of Code Case OMN-20. Compliance with the ASME Code is required by 10 CFR 50.55a. The proposed change also allows inservice tests with frequencies greater than 2 years to be extended by 6 months to facilitate test scheduling and consideration of plant operating conditions that may not be suitable for performance of the required testing. The testing frequency extension will not affect the ability of the components to respond to an accident as the components are required to be operable during the testing period extension. The proposed change will eliminate the existing TS 4.0.3 allowance to defer performance of missed inservice tests up to the duration of the specified testing frequency, and instead will require an assessment of the missed test on equipment operability. This assessment will consider the effect on a margin of safety (equipment operability). Should the component be inoperable, the TS provide actions to ensure that the margin of safety is protected. The proposed change also eliminates a statement that nothing in the ASME Code should be construed to supersede the requirements of any TS. [. . .] However, elimination of the statement will have no effect on plant operation or safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC-N21, P.O. Box 236, Hancocks Bridge, NJ 08038.

NRC Branch Chief: Douglas A. Broaddus.

South Carolina Electric & Gas Company and South Carolina Public Service Authority, Docket Nos. 52-027 and 52-028, Virgil C. Summer Nuclear Station, Units 2 and 3, Fairfield, South Carolina

Date of amendment request: September 22, 2016. A publicly-available version is in ADAMS under Accession No. ML16270A582.

Description of amendment request: The changes would amend Combined License Nos. NPF-93 and NPF-94 for the Virgil C. Summer Nuclear Station, Units 2 and 3, respectively. The amendments propose changes to the Updated Final Safety Analysis Report (UFSAR) in the form of departures from the incorporated plant-specific Design Control Document Tier 2 information and involve related changes to the Combined Operating License Appendix C (and corresponding plant-specific design control document Tier 1) information. Specifically, the proposed departures consist of changes to the design reliability assurance program (D-RAP) to identify the covers for the in-containment refueling water storage tank vents and overflow weirs as the risk-significant components included in the D-RAP and to differentiate between the rod drive motor-generator (MG) sets field control relays and the rod drive power supply control cabinets in which the relays are located.

Basis for proposed no significant hazards consideration determination: As required by 10 CFR 50.91(a), the licensee has provided its analysis of the issue of no significant hazards consideration, which is presented below:

1. Does the proposed amendment involve a significant increase in the probability or consequences of an accident previously evaluated?

Response: No.

The in-containment refueling water storage tank (IRWST) provides flooding of the refueling cavity for normal refueling. The tank also serves as a heat sink during Passive Residual Heat Removal (PRHR) Heat Exchanger (HX) operation and in the event of a loss-of-coolant-accident (LOCA) provides injection in support of long-term RCS cooling. This activity adds normally closed covers to the IRWST vents and overflow weirs to prevent debris from entering the tank, prevent over-pressurization and accommodate volume and mass increases in the tank. The vent and overflow weir covers open upon differential pressures between the IRWST and containment.

The rod drive MG sets provide the power to the control rod drive mechanisms through the reactor trip switchgear. This activity revises the equipment description and equipment tag associated with the risk-significant control relays which open to de-energize the rod drive MG sets and permit rods to drop.

The proposed changes to add the IRWST vent and overflow weir covers and to change the description of the equipment and equipment tag related to the rod drive MG sets does not inhibit the SSCs from performing their safety-related function. The design bases of the IRWST vents and overflow weirs are not modified as a result of the addition of the covers to the vents and overflow weirs and the change to the control cabinet relay description and equipment tag. This proposed amendment does not have an adverse impact on the response to anticipated transients or postulated accident conditions because the functions of the SSCs are not changed. Required IRWST venting is not affected for any accident conditions. Required DAS functions are not affected for any accident conditions. Safety-related structure, system, component (SSC) or function is not adversely affected by this change. The changes to include the IRWST covers and to change the control cabinet relay description and tag number do not involve an interface with any SSC accident initiator or initiating sequence of events, and thus, the probabilities of the accidents evaluated in the UFSAR are not affected. The proposed changes do not involve a change to the predicted radiological releases due to postulated accident conditions, thus, the consequences of the accidents evaluated in the UFSAR are not affected. Probabilistic Risk Assessment (PRA) modeling and analyses associated with the SSCs are not impacted by this change.

Therefore, the proposed amendment does not involve a significant increase in the probability or consequences of an accident previously evaluated.

2. Does the proposed amendment create the possibility of a new or different kind of accident from any accident previously evaluated?

Response: No.

The proposed changes to the design of the IRWST vent and overflow weir covers do not adversely affect any safety-related equipment, and do not add any new interfaces to safety-related SSCs. No system or design function or equipment qualification is affected by these changes. The changes do not introduce a new failure mode, malfunction or sequence of events that could affect plant safety or safety-related equipment as the simplistic design of the cover louvers and hinged flappers are not considered unique designs. No new credible failure modes are introduced by the addition of the covers.

The proposed changes to the description and equipment tag associated with the risk-significant control relays for the rod drive MG sets do not adversely affect any safety-related equipment, and do not add any new interfaces to safety-related SSCs. No system or design function or equipment qualification is affected by these changes. The changes do not introduce a new failure mode, malfunction or sequence of events that could affect plant safety or safety-related equipment because the design function of the control relays, control cabinets, or rod drive MG sets is not changed.

Therefore, the proposed amendment does not create the possibility of a new or different kind of accident from any accident previously evaluated.

3. Does the proposed amendment involve a significant reduction in a margin of safety?

Response: No.

The proposed changes maintain compliance with the applicable Codes and Standards, thereby maintaining the margin of safety associated with these SSCs. The proposed changes do not alter any applicable design codes, code compliance, design function, or safety analysis. Consequently, no safety analysis or design basis acceptance limit/criterion is challenged or exceeded by the proposed change, thus the margin of safety is not reduced. Because no safety analysis or design basis acceptance limit/criterion is challenged or exceeded by these changes, no margin of safety is reduced.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius, LLC, 1111 Pennsylvania Avenue NW., Washington, DC 20004-2514.

NRC Branch Chief: Michael T. Markley.

Tennessee Valley Authority, Docket Nos. 50-390 and 50-391, Watts Bar Nuclear Plant (WBN), Units 1 and 2, Rhea County, Tennessee

Date of amendment request: September 23, 2016. A publicly-available version is in ADAMS under Accession No. ML16271A378.

Description of amendment request: The amendments would revise the completion date for License Condition 2.C(9)b for Unit 1, and License Condition 2.C(3) for Unit 2, regarding the date for completion of permanent modifications to the Fort Loudoun Dam to prevent overtopping due to the probable maximum flood. The change is needed to accommodate the current Tennessee Department of Transportation schedule for completion of highway construction that will facilitate access to complete the modifications to the Fort Loudoun Dam.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to revise the completion date for License Condition 2.C(9)b for WBN Unit 1 and License Condition 2.C(3) for WBN Unit 2 regarding the completion of permanent modifications to the Fort Loudoun Dam from February 1, 2017, to June 30, 2018, do not affect the structures, systems, or components (SSCs) of the plant, affect plant operations, or any design function or an analysis that verifies the capability of an SSC to perform a design function. No change is being made to any of the previously evaluated accidents in the WBN Updated Final Safety Analysis Report (UFSAR).

The proposed changes do not (1) require physical changes to plant SSCs; (2) prevent the safety function of any safety-related system, structure, or component during a design basis event; (3) alter, degrade, or prevent action described or assumed in any accident described in the WBN UFSAR from being performed because the safety-related SSCs are not modified; (4) alter any assumptions previously made in evaluating radiological consequences; or (5) affect the integrity of any fission product barrier.

Therefore, the proposed change does not involve a significant increase in the probability or consequence of an accident previously evaluated.

2. Does the proposed amendment create the possibility of a new or different kind of accident from any accident previously evaluated?

Response: No.

The proposed changes do not introduce any new accident causal mechanisms, because no physical changes are being made to the plant, nor do they affect any plant systems that are potential accident initiators.

Therefore, the proposed change does not create the possibility of a new or different kind of accident from any accident previously evaluated.

3. Does the proposed amendment involve a significant reduction in a margin of safety?

Response: No.

The margin of safety associated with the acceptance criteria of any accident is unchanged. The proposed changes will have no effect on the availability, operability, or performance of safety-related systems and components.

The proposed change will not adversely affect the operation of plant equipment or the function of equipment assumed in the accident analysis.

The proposed amendment does not involve changes to any safety analyses assumptions, safety limits, or limiting safety system settings. The changes do not adversely affect plant-operating margins or the reliability of equipment credited in the safety analyses.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Sherry A. Quirk, Executive Vice President and General Counsel, Tennessee Valley Authority, 400 West Summit Hill Drive, 6A Tower West, Knoxville, TN 37902.

NRC Acting Branch Chief: Jeanne A. Dion.

II. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Florida Power & Light Company, Docket Nos. 50-250 and 50-251, Turkey Point Nuclear Generating Unit Nos. 3 and 4, Miami-Dade County, Florida

Date of amendment request: August 3, 2016, as supplemented by letter dated October 4, 2016. Publicly available versions are in ADAMS under Accession Nos. ML16230A003 and ML16291A495, respectively.

Description of amendment request: The amendments would revise the Technical Specification (TS) requirements for the Control Room Emergency Ventilation System (CREVS). The licensee proposed the changes to align the CREVS TSs more closely with the applicable Standard Technical Specifications. Consequently, the requirements to immediately suspend irradiated fuel movement would be relocated, in most cases, to coincide with the commencement of unit shutdown in the event the allowable outage time (AOT) cannot be met for an inoperable CREVS component or control room envelope (CRE) boundary. The proposed amendments would also eliminate the TS Limiting Condition for Operation Actions and Surveillance Requirements associated with the CREVS kitchen and lavatory ventilation exhaust duct isolation dampers.

Basis for proposed no significant hazards consideration determination: As required by 10 CFR 50.91(a), the licensee has provided its analysis of the issue of no significant hazards consideration, which is presented below:

1. Does the proposed amendment involve a significant increase in the probability or consequences of an accident previously evaluated?

Response: No.

Relocating the requirement to immediately suspend irradiated fuel movement from the determination of inoperability to the expiration of the AOT is consistent with the Westinghouse Standard Technical Specifications (STS) for an inoperable CREVS train and thereby establishes a commensurate level of safety. This change does not impact the functioning of the fuel handling system and so does not significantly increase the probability of a fuel handling accident. The removal of the kitchen and lavatory area exhaust damper requirements aligns the licensing basis with the current design and enhances the reliability of the CRE. The CREVS is not an initiator of an accident. Hence, neither of the proposed changes increase the probability of an accident previously evaluated.

The proposed changes do not impair the CREVS' capability to provide a protected environment from which operators can control the Units for all postulated events in the presence of a single failure. For an inoperable CRE boundary in any plant MODE, the suspension of fuel movement for the first 24 hours, during which the effectiveness of the mitigating actions are verified, ensures no increase in the consequences of a fuel handling accident. The proposed change aligns the licensing bases for the kitchen and lavatory ventilation exhaust pathways with a more reliable physical barrier design.

Therefore, the proposed change does not involve a significant increase in the probability or consequences of an accident previously evaluated.

2. Does the proposed amendment create the possibility of a new or different kind of accident from any accident previously evaluated?

Response: No.

Relocating the requirement to immediately suspend irradiated fuel movement until expiration of the AOT is consistent with the Westinghouse STS and hence does not introduce a new type of accident than previously evaluated or change the methods governing normal plant operation. Aligning the Control Room kitchen and lavatory ventilation exhaust pathway licensing bases with their current design does not introduce new failure modes for existing equipment or result in any new limiting single failure modes. The proposed changes do not challenge the performance or integrity of any safety-related system.

Therefore, the proposed change does not create the possibility of a new or different kind of accident from any previously evaluated.

3. Does the proposed amendment involve a significant reduction in a margin of safety?

Response: No.

The proposed changes align the current CREVS TS ACTION(s) with the Westinghouse STS and the licensing bases for the Control Room kitchen and lavatory ventilation exhaust pathways with their current design. As such, the proposed changes do not involve changes to any safety analyses assumptions, safety limits, or limiting safety system settings nor do they adversely impact plant operating margins or the reliability of equipment credited in the safety analyses.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William S. Blair, Managing Attorney—Nuclear, Florida Power & Light Company, 700 Universe Blvd., MS LAW/JB, Juno Beach, FL 33408-0420.

NRC Acting Branch Chief: Jeanne A. Dion.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation, and/or Environmental Assessment, as indicated. All of these items can be accessed as described in the “Obtaining Information and Submitting Comments” section of this document.

Duke Energy Florida, Inc. (DEF), et al., Docket No. 50-302, Crystal River Unit 3 Nuclear Generating Plant, Citrus County, Florida

Date of amendment request: September 22, 2015.

Brief description of amendment: The amendment approved the proposed name change from Duke Energy Florida, Inc. to Duke Energy Florida, LLC.

Date of issuance: October 12, 2016.

Effective date: As of the date of issuance and shall be implemented within 60 days of issuance.

Amendment No.: 250.

Facility Operating License No. DPR-72: The amendment revised the facility operating license.

Date of initial notice in Federal Register: August 16, 2016 (81 FR 54614).

The Commission's related evaluation of the amendment is contained in a Safety Evaluation dated October 12, 2016.

No significant hazards consideration comments received: No.

Duke Energy Progress, LLC, Docket No. 50-261, H. B. Robinson Steam Electric Plant, Unit No. 2, Hartsville, South Carolina

Date of amendment request: November 19, 2015, as supplemented by letter dated August 18, 2016.

Brief description of amendment: The amendment revised the technical specifications (TSs) to allow the extension of the Type A containment test interval to 15 years and the extension of the Type B and Type C test intervals for selected components to 120 months and 75 months, respectively. The amendment also deleted from the TSs an already implemented one-time extension of the Type A test frequency.

Date of issuance: October 11, 2016.

Effective date: As of the date of issuance and shall be implemented within 120 days of issuance.

Amendment No.: 247. A publicly-available version is in ADAMS under Accession No. ML16201A195; documents related to this amendment are listed in the Safety Evaluation enclosed with the amendment.

Renewed Facility Operating License No. DPR-23: Amendment revised the Renewed Facility Operating License and TSs.

Date of initial notice in Federal Register: March 15, 2016 (81 FR 13841). The supplemental letter dated August 18, 2016, provided additional information that clarified the application, did not expand the scope of the application as originally noticed, and did not change the staff's original proposed no significant hazards consideration determination as published in the Federal Register.

The Commission's related evaluation of the amendment is contained in a Safety Evaluation dated October 11, 2016.

No significant hazards consideration comments received: No.

Exelon Generation Company, LLC, Docket Nos. 50-317 and 50-318, Calvert Cliffs Nuclear Power Plant, Units 1 and 2 (CCNPP 1 and 2), Calvert County, Maryland

Date of amendment request: February 4, 2016.

Brief description of amendments: The amendments revised the CCNPP 1 and 2 Technical Specifications (TSs) to include Surveillance Requirement (SR) 3.5.2.10 in the list of applicable surveillances of SR 3.5.3.1 as part of the implementation of Technical Specifications Task Force (TSTF) Improved Standard Technical Specifications Change Traveler TSTF-523, Revision 2, “Generic Letter 2008-01, Managing Gas Accumulation.”

Date of issuance: October 7, 2016.

Effective date: As of the date of issuance and shall be implemented within 60 days of issuance.

Amendment Nos.: 319 (Unit 1) and 297 (Unit 2). A publicly-available version is in ADAMS under Accession No. ML16263A001; documents related to these amendments are listed in the Safety Evaluation enclosed with the amendments.

Renewed Facility Operating License Nos. DPR-53 and DPR-69: Amendments revised the Renewed Facility Operating Licenses and TSs.

Date of initial notice in Federal Register: May 24, 2016 (81 FR 32806).

The Commission's related evaluation of the amendments is contained in a Safety Evaluation dated October 7, 2016.

No significant hazards consideration comments received: No.

Exelon Generation Company, LLC, and PSEG Nuclear LLC, Docket Nos. 50-277 and 50-278, Peach Bottom Atomic Power Station, Units 2 and 3, York and Lancaster Counties, Pennsylvania

Date of amendment request: June 20, 2016, as supplemented by letter dated August 11, 2016.

Brief description of amendments: The amendments revised Technical Specification 3.8.3, “Diesel Fuel Oil, Lube Oil, and Starting Air,” to replace the required stored inventory of lube oil for the diesel generators (specified in number of gallons) with inventory requirements based on diesel generator operating time (specified in number of days). The changes are based on Revision 1 to Technical Specifications Task Force (TSTF) Improved Standard Technical Specifications Change Traveler TSTF-501, “Relocate Stored Fuel Oil and Lube Oil Volume Values to Licensee Control.”

Date of issuance: October 14, 2016.

Effective date: As of the date of issuance and shall be implemented within 60 days of issuance.

Amendment Nos.: 310 (Unit 2) and 314 (Unit 3). A publicly-available version is in ADAMS under Accession No. ML16235A405; documents related to these amendments are listed in the Safety Evaluation enclosed with the amendments.

Renewed Facility Operating License Nos. DPR-44 and DPR-56: The amendments revised the Renewed Facility Operating Licenses and Technical Specifications.

Date of initial notice in Federal Register: July 19, 2016 (81 FR 46962). The supplemental letter dated August 11, 2016, provided additional information that clarified the application, did not expand the scope of the application as originally noticed, and did not change the staff's original proposed no significant hazards consideration determination as published in the Federal Register.

The Commission's related evaluation of the amendments is contained in a Safety Evaluation dated October 14, 2016.

No significant hazards consideration comments received: No.

Exelon Generation Company, LLC, Docket Nos. 50-237 and 50-249, Dresden Nuclear Power Station (DNPS), Unit Nos. 2 and 3, Grundy County, Illinois

Exelon Generation Company, LLC, Docket Nos. 50-254 and 50-265, Quad Cities Nuclear Power Station (QCNPS), Unit Nos. 1 and 2, Rock Island County, Illinois

Date of amendment request: February 6, 2015, as supplemented by letters dated September 1, 2015, and January 20, January 28, April 26, June 22, and September 28, 2016.

Brief description of amendments: The amendments revised the technical specifications (TSs) for both DNPS, Units Nos. 2 and 3, and QCNPS, Unit Nos. 1 and 2, to support the use of AREVA nuclear fuel; both facilities currently operate using a Westinghouse nuclear fuel design. Specifically, the TSs for the core operating limits report (TS 5.6.5.b) are revised to include NRC-approved AREVA methodologies and to delete methodologies no longer in use. The transient analyses take credit for conservatism in the scram speed performance; therefore, a new surveillance requirement (SR) associated with linear heat generation rate (LHGR) is added to the TSs (SR 3.2.3.2). This demonstrates scram speed distribution is consistent with that used in the transient analyses. The TSs associated with the limiting condition for operation (LCO 3.7.7) for the main turbine bypass system is revised to include requirements to use the minimum critical power ratio limits (LCO 3.2.2) and LHGR limits (LCO 3.2.3) during operations when at greater than or equal to (≥) 25 percent of rated thermal power and the main turbine bypass system is inoperable.

To increase the margin to the maximum reactor pressure vessel (RPV) acceptance criteria for certain anticipated transient without scram (ATWS) transients, the SRs for the allowable value (AV) for the ATWS recirculation pump trip (ATWS-RPT) on high RPV steam dome pressure are modified (SR 3.3.4.1.4.b). The ATWS-RPT AV for DNPS, Unit Nos. 2 and 3, is lowered to less than or equal to 1,198 pounds per square inch gauge (psig). The ATWS-RPT AV for QCNPS, Unit Nos. 1 and 2, is lowered to less than or equal to 1,195 psig.

Date of issuance: October 20, 2016.

Effective date: As of the date of issuance and shall be implemented prior to entering into MODE 2 on the first plant startup following the next refueling outage for each unit.

Amendment Nos.: 251 and 244 (DNPS, Unit Nos. 2 and 3) and 264 and 259 (GCNPS, Unit Nos. 1 and 2). A publicly-available version is in ADAMS under Accession No. ML16221A061; documents related to these amendments are listed in the Safety Evaluation enclosed with the amendments.

Renewed Facility Operating License Nos. DPR-19, DPR-25, DPR-29, and DPR-30: Amendments revised the Renewed Facility Operating Licenses and TSs.

Date of initial notice in Federal Register: November 3, 2015 (80 FR 67800). The supplemental letters dated January 20, January 28, April 26, June 22, and September 28, 2016, provided additional information that clarified the application, did not expand the scope of the application as originally noticed, and did not change the staff's original proposed no significant hazards consideration determination as published in the Federal Register.

The Commission's related evaluation of the amendments is contained in a Safety evaluation dated October 20, 2016.

No significant hazards consideration comments received: No.

Exelon Generation Company, LLC, Docket Nos. 50-254 and 50-265, Quad Cities Nuclear Power Station, Units 1 and 2, Rock Island County, Illinois

Date of amendment request: December 14, 2015, as supplemented by letters dated March 9, 2016, and June 1, 2016. Publicly-available versions are in ADAMS under Accession Nos. ML15348A396, ML16069A217, and ML16153A084, respectively.

Brief description of amendments: The amendments revised the design bases in the updated final safety analysis report to reflect the use of a new criticality safety assessment for fuel channel bow/bulge methodology to support the performance of criticality safety evaluation for ATRIUM-10XM fuel design in the spent fuel pool.

Date of issuance: October 17, 2016.

Effective date: As of the date of issuance and shall be implemented within 60 days from the date of issuance.

Amendment Nos.: 263 (Unit 1) and 258 (Unit 2). A publicly-available version is in ADAMS under Accession No. ML16231A131; documents related to these amendments are listed in the Safety Evaluation enclosed with the amendments.

Renewed Facility Operating License Nos. DPR-29 and DPR-30: The amendments revised the Facility Operating Licenses.

Date of initial notice in Federal Register: May 3, 2016 (81 FR 26586). The March 9, 2016, supplement corrected a deficiency in the Holtec affidavit in the original submittal and did not change the NRC staff's initial proposed finding of no significant hazards consideration. The June 1, 2016, supplement contained clarifying information and did not change the NRC staff's initial proposed finding of no significant hazards consideration.

The Commission's related evaluation of the amendments is contained in a Safety Evaluation dated October 17, 2016.

No significant hazards consideration comments received: No.

Indiana Michigan Power Company, Docket Nos. 50-315 and 50-316, Donald C. Cook Nuclear Plant (CNP), Units 1 and 2, Berrien County, Michigan

Date of amendment request: November 14, 2014, as supplemented by letters dated February 12, July 17, August 24, August 28, November 16, and December 17, 2015, and February 19, May 6, July 12, and September 15, 2016.

Brief description of amendments: The amendments revised the CNP, Units 1 and 2, Technical Specifications (TSs) by replacing the limit on reactor coolant system (RCS) gross specific activity with a new limit on RCS noble gas specific activity. The noble gas specific activity limit is based on a new DOSE EQUIVALENT Xenon (Xe)-133 definition that replaces the E Bar average disintegration energy definition. In addition, the DOSE EQUIVALENT Iodine (I)-131 definition is revised to allow the use of additional thyroid dose conversion factors. The changes are consistent with NRC-approved industry Technical Specifications Task Force (TSTF) Standard Technical Specification change traveler, TSTF-490, Revision 0, “Deletion of E-Bar Definition and Revision to Reactor Coolant System Specific Activity Technical Specification,” with approved deviations. Additionally, the amendments revised the CNP, Units 1 and 2, licensing basis and TSs to adopt the alternative source term as allowed in 10 CFR 50.67.

Date of issuance: October 20, 2016.

Effective date: As of the date of issuance and shall be implemented within 180 days of issuance.

Amendment Nos.: 332 for Unit 1 and 314 for Unit 2. A publicly-available version is in ADAMS under Accession No. ML16242A111; documents related to these amendments are listed in the Safety Evaluation enclosed with the amendments.

Renewed Facility Operating License Nos. DPR-58 and DPR-74: Amendments revised the Renewed Facility Operating Licenses and TSs.

Date of initial notice in Federal Register: March 31, 2015 (80 FR 17091). The supplemental letters dated July 17, August 24, August 28, November 16, and December 17, 2015, and February 19, May 6, July 12, and September 15, 2016, provided additional information that clarified the application, did not expand the scope of the application as originally noticed, and did not change the staff's original proposed no significant hazards consideration determination as published in the Federal Register.

The Commission's related evaluation of the amendments is contained in a Safety Evaluation dated October 20, 2016.

No significant hazards consideration comments received: No.

Nebraska Public Power District, Docket No. 50-298, Cooper Nuclear Station (CNS), Nemaha County, Nebraska

Date of amendment request: April 21, 2016, as supplemented by letter dated August 29, 2016.

Brief description of amendment: The amendment revised Section 2.0, “Safety Limits (SLs),” of the CNS Technical Specifications by revising the two recirculation loop and single recirculation loop safety limit minimum critical power ratio values to reflect the results of a cycle-specific calculation.

Date of issuance: October 17, 2016.

Effective date: As of the date of issuance and shall be implemented prior to startup from Refuel Outage 29.

Amendment No.: 257. A publicly-available version is in ADAMS under Accession No. ML16272A137; documents related to this amendment are listed in the Safety Evaluation enclosed with the amendment.

Renewed Facility Operating License No. DPR-46: The amendment revised the Renewed Facility Operating License and Technical Specifications.

Date of initial notice in Federal Register: July 5, 2016 (81 FR 43664). The supplemental letter dated August 29, 2016, provided additional information that clarified the application, did not expand the scope of the application as originally noticed, and did not change the staff's original proposed no significant hazards consideration determination as published in the Federal Register.

The Commission's related evaluation of the amendment is contained in a Safety Evaluation dated October 17, 2016.

No significant hazards consideration comments received: No.

NextEra Energy Duane Arnold, LLC, Docket No. 50-331, Duane Arnold Energy Center (DAEC), Linn County, Iowa

Date of amendment request: October 14, 2015. A publicly-available version is in ADAMS under Accession No. ML15289A233.

Brief description of amendment: The amendment revised the DAEC Technical Specifications Section 5.5.6, “Inservice Testing Program,” to provide consistency with the requirements of 10 CFR 50.55a(f)(4) for inservice testing of pumps and valves and remove requirements that are redundant to the requirements of 10 CFR 50.55a.

Date of issuance: October 17, 2016.

Effective date: As of the date of issuance and shall be implemented within 60 days of issuance.

Amendment No.: 298. A publicly-available version is in ADAMS under Accession No. ML16263A245; documents related to this amendment are listed in the Safety Evaluation enclosed with the amendment.

Renewed Facility Operating License No. DPR-49: The amendment revised the Renewed Facility Operating License and Technical Specifications.

Date of initial notice in Federal Register: December 22, 2015 (80 FR 79621).

The Commission's related evaluation of the amendment is contained in a Safety Evaluation dated October 17, 2016.

No significant hazards consideration comments received: No.

Northern States Power Company—Minnesota, Docket No. 50-282, Prairie Island Nuclear Generating Plant, Unit 1, Goodhue County, Minnesota

Date of amendment request: April 7, 2016.

Brief description of amendment: The amendment revised Technical Specification (TS) Surveillance Requirement (SR) 3.8.4.3 to allow a one-time extension of 1 month for the TS SR frequency.

Date of issuance: October 13, 2016.

Effective date: As of the date of issuance and shall be implemented within 7 days of issuance.

Amendment No.: 218. A publicly-available version is in ADAMS under Accession No. ML16256A514; documents related to this amendment are listed in the Safety Evaluation enclosed with the amendment.

Facility Operating License No. DPR-42: Amendment revised the Facility Operating License and TSs.

Date of initial notice in Federal Register: June 21, 2016 (81 FR 40360).

The Commission's related evaluation of the amendment is contained in a Safety Evaluation dated October 13, 2016.

No significant hazards consideration comments received: No.

PSEG Nuclear LLC, Docket No. 50-354, Hope Creek Generating Station (HCGS), Salem County, New Jersey

Date of amendment request: June 8, 2016.

Brief description of amendment: The amendment revised the HCGS Technical Specifications. Specifically, the safety limit minimum critical power ratio for single recirculation loop operation is revised. The change results from a cycle-specific analysis performed to support the operation of HCGS in upcoming Cycle 21.

Date of issuance: October 13, 2016.

Effective date: As of the date of issuance and shall be implemented prior to startup from the fall 2016 refueling outage.

Amendment No.: 200. A publicly-available version is in ADAMS under Accession No. ML16270A038; documents related to this amendment are listed in the Safety Evaluation enclosed with the amendment.

Renewed Facility Operating License No. NPF-57: The amendment revised the Renewed Facility Operating License and Technical Specifications.

Date of initial notice in Federal Register: August 2, 2016 (81 FR 50748).

The Commission's related evaluation of the amendment is contained in a Safety Evaluation dated October 13, 2016.

No significant hazards consideration comments received: No.

Southern Nuclear Operating Company, Docket Nos. 50-348 and 50-364, Joseph M. Farley Nuclear Plant, Units 1 and 2, Houston County, Alabama

Date of amendment request: April 25, 2016.

Brief description of amendments: The amendments updated Attachment M, “License Condition Changes”; Attachment S, “Modification and Implementation Items”; and Attachment W, “Fire Probabilistic Risk Analysis Insights,” of the previously approved National Fire Protection Association (NFPA) 805 amendment.

Date of issuance: October 17, 2016.

Effective date: As of the date of issuance and shall be implemented within 60 days of issuance.

Amendment Nos.: 205 (Unit 1) and 201 (Unit 2). A publicly-available version is in ADAMS under Accession No. ML16232A000; documents related to these amendments are listed in the Safety Evaluation enclosed with the amendments.

Renewed Facility Operating License Nos. NPF-2 and NPF-8: The amendments revised the Renewed Facility Operating Licenses.

Date of initial notice in Federal Register: June 7, 2016 (81 FR 36623).

The Commission's related evaluation of the amendments is contained in a Safety Evaluation dated October 17, 2016.

No significant hazards consideration comments received: No.

South Carolina Electric & Gas Company and South Carolina Public Service Authority, Docket Nos. 52-027 and 52-028, Virgil C. Summer Nuclear Station (VCSNS), Units 2 and 3, Fairfield County, South Carolina

Date of amendment request: January 19, 2016, as supplemented by letter dated March 1, 2016.

Description of amendment: The amendments authorized changes to the VCSNS, Units 2 and 3, Updated Final Safety Analysis Report in the form of departures from the incorporated plant-specific Design Control Document Tier 2* information. The changes are related to changes to construction methods and construction sequence used for the composite floors and roof of the auxiliary building.

Date of issuance: August 25, 2016.

Effective date: As of the date of issuance and shall be implemented within 30 days of issuance.

Amendment Nos.: 51 (for Units 2 and 3). A publicly-available version is in ADAMS under Package Accession No. ML16202A279; documents related to these amendments are listed in the Safety Evaluation enclosed with the amendments.

Facility Combined Licenses No. NPF-91 and NPF-92: Amendments revised the Facility Combined Licenses.

Date of initial notice in Federal Register: March 15, 2016 (81 FR 13837). The supplemental letter dated March 1, 2016, provided additional information that clarified the application, did not expand the scope of the application as originally noticed, and did not change the staff's original proposed no significant hazards consideration determination as published in the Federal Register.

The Commission's related evaluation of the amendment is contained in a Safety Evaluation dated August 25, 2016.

No significant hazards consideration comments received: No.

Virginia Electric and Power Company, Docket Nos. 50-338 and 50-339, North Anna Power Station, Unit Nos. 1 and 2, Louisa County, Virginia

Date of amendment request: December 10, 2016, as supplemented by letter dated June 15, 2016.

Brief description of amendments: The amendments modified Technical Specification (TS) 3.2.1, “Heat Flux Hot Channel Factor (FQ(Z)).” The amendments relocate required operating space reductions to the Core Operating Limits Report, accompanied by verification for each reload cycle, and define TS surveillance requirements for steady-state and transient FQ(Z) and corresponding actions with which to apply an appropriate penalty factor to measured results, as identified in Westinghouse Nuclear Safety Advisory Letter (NSAL)-09-5, Revision 1, “Relaxed Axial Offset Control FQ Technical Specification Actions,” and NSAL-15-1, Revision 0, “Heat Flux Hot Channel Factor Surveillance Requirements,” respectively.

Date of issuance: October 17, 2016.

Effective date: As of the date of issuance and shall be implemented before September 30, 2017.

Amendment Nos.: 278 (Unit No. 1) and 261 (Unit No. 2). A publicly available version is in ADAMS under Accession No. ML16252A478; documents related to these amendments are listed in the Safety Evaluation enclosed with the amendments.

Renewed Facility Operating License Nos. NPF-4 and NPF-7: Amendments revised the Renewed Facility Operating Licenses and TSs.

Date of initial notice in Federal Register: March 1, 2016 (81 FR 10682). The supplemental letter dated June 15, 2016, provided additional information that clarified the application, did not expand the scope of the application as originally noticed, and did not change the staff's original proposed no significant hazards consideration determination as published in the Federal Register.

The Commission's related evaluation of the amendments is contained in a Safety Evaluation dated October 17, 2016.

No significant hazards consideration comments received: No.

Dated at Rockville, Maryland, this 27th day of October, 2016.
For the Nuclear Regulatory Commission.
Anne T. Boland,
Director, Division of Operating Reactor Licensing, Office of Nuclear Reactor Regulation.

[FR Doc. 2016-26824 Filed 11-7-16; 8:45 am]

BILLING CODE 7590-01-P